DEPARTMENT OF COMMERCE

National Oceanic and Atmospheric Administration

RIN 0648-XX37

Endangered and Threatened Species; Notice of Intent to Prepare a Recovery Plan for the Sei Whale

AGENCY: National Marine Fisheries Service (NMFS), National Oceanic and Atmospheric Administration (NOAA), Commerce.

ACTION: Notice of intent to prepare recovery plan; request for information.

SUMMARY: The National Marine Fisheries Service (NMFS) is announcing its intent to prepare a recovery plan for the Sei Whale (Balaenoptera borealis) and requests information from the public. NMFS is required by the Endangered Species Act of 1973 (ESA), as amended, to develop plans for the conservation and survival of federally listed species, i.e., recovery plans.

DATES: To allow NMFS adequate time to conduct the reviews, all information must be received no later than [September 13, 2010.

ADDRESSES: You may submit comments, identified by the code 0648-XX37 by any of the following methods:

1. Electronic Submissions: Submit all electronic comments via the Federal eRulemaking Portal: http://www.regulations.gov

2. Facsimile (fax): 301-713-0376, Please identify the fax comments as “Sei Whale Recovery Plan Information”

3. Mail: National Marine Fisheries Service, Office of Protected Resources, 1315 East West Highway, Silver Spring, MD 20910, ATTN: Greg Silber

FOR FURTHER INFORMATION CONTACT: Greg Silber at the above address, or at 301-713-2322.

SUPPLEMENTARY INFORMATION: Management responsibility for sei whales lies with the Secretary of Commerce and has been delegated to NMFS. As such, NMFS is charged with the recovery of sei whales which are listed as endangered under the ESA.

The recovery planning process is guided by the statutory language of Section 4(f) of the ESA and NMFS policies. Recovery planning identifies all methods and procedures which are necessary to recover any endangered species or threatened species. Section 4(f)(1)(B) of the ESA specifies that recovery plans must incorporate in each plan - (i) a description of such site-specific management actions as may be necessary to achieve the plan's goal for the conservation and survival of the species; (ii) objective, measurable criteria which when met, would result in a determination, that the species be removed from the list; and (iii) estimates of the time required and cost to carry out those measures needed to achieve the plan's goal and to achieve intermediate steps toward that goal.

The recovery planning process is guided by the statutory language of Section 4(f) of the ESA, which requires that public notice and an opportunity for public review and comment be provided during recovery plan development. NMFS requests relevant information from the public during preparation of the draft Recovery Plan. Such information should address: (a) criteria for removing the sei whale from the list of threatened and endangered species; (b) factors that are presently limiting, or threaten to limit, the survival of the sei whale; (c) actions to address limiting factors and threats; (d) estimates of time and cost to implement recovery actions; and (e) research, monitoring and evaluation needs.

Upon completion, the draft Recovery Plan will be available for public review and comment through the publication of a Federal Register Notice.

Authority: 16 U.S.C. 1531 et seq.

Dated: July 8, 2010.
James H. Lecky,
Director, Office of Protected Resources, National Marine Fisheries Service.

[FR Doc. 2010-17060 Filed 7-12-10; 8:45 am]

BILLING CODE 3510-22-S